DEPARTMENT OF ENERGY

Federal Energy Regulatory Commission

[Project No. 2174-012-California]

Southern California Edison; Notice of Availability of Draft Environmental Assessment

August 4, 2005.

In accordance with the National Environmental Policy Act of 1969, as amended, and the Federal Energy Regulatory Commission's (Commission or FERC) regulations (18 CFR part 380), Commission staff has reviewed the application for license for the Portal Hydroelectric Project (FERC No. 2174-012) and has prepared a draft environmental assessment (DEA). The project is located on Camp 61 Creek and Rancheria Creek in Fresno County, California.

The DEA contains the staff's analysis of the potential environmental effects of the project and concludes that licensing the project, with appropriate environmental protective measures, would not constitute a major federal action that would significantly affect the quality of the human environment.

Copies of the DEA are available for review in Public Reference Room 2-A of the Commission's offices at 888 First Street, NE., Washington, DC. The DEA also may be viewed on the Commission's Internet Web site (http://www.ferc.gov) using the “eLibrary” link. Additional information about the project is available from the Commission's Office of External Affairs, at (202) 502-6088, or on the Commission's Web site using the eLibrary link.

Any comments on the DEA should be filed within 30 days of the date of this notice and should be addressed to Magalie R. Salas, Secretary, Federal Energy Regulatory Commission, 888 First Street, NE., Washington, DC 20426. Please reference “Portal Hydroelectric Project, FERC Project No. 2174-012” on all comments. Comments may be filed electronically via the Internet in lieu of paper. See 18 CFR 385.2001(a)(1)(iii) and the instructions on the Commission's Web site under the “e-Filing” link.

Linda Mitry,
Deputy Secretary.

[FR Doc. E5-4345 Filed 8-10-05; 8:45 am]

BILLING CODE 6717-01-P